DEPARTMENT OF COMMERCE

National Oceanic and Atmospheric Administration

[RTID 0648-XF329]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 158th Scientific and Statistical Committee (SSC), Executive and Budget Standing Committee (SC), Program Planning SC, and its 205th Council meetings to take actions on fishery management issues in the Western Pacific Region.

DATES: The meetings will be held between December 9 and December 17, 2025. For specific times and agendas, see SUPPLEMENTARY INFORMATION. Written public comments on final action items at the 205th Council meeting should be received at the Council office by 5 p.m. HST, Thursday, December 11, 2025, see ADDRESSES.

ADDRESSES: The 158th SSC, Program Planning SC, and 205th Council meetings will be held by web conference via Webex. The Executive and Budget SC will be held as an in-person meeting at the Council office, 1164 Bishop Street, Suite 1400, Honolulu, Hawaii. Specific information on joining the meeting, connecting to the web conference and providing oral public comments will be posted on the Council website at www.wpcouncil.org. For assistance with the web conference connection, contact the Council office at (808) 522-8220.

The following venues will be host sites for the 205th Council meeting: Council office, 1164 Bishop Street, Suite 1400, Honolulu, Hawaii; Tedi of Samoa Building Suite 208B, Fagatogo Village, American Samoa; Cliff Pointe, 304 W O'Brien Drive, Hagatna, Guam; and BRI Building Suite 205, Kopa Di Oru St. Garapan, Saipan, CNMI.

Council address: Western Pacific Fishery Management Council, 1164 Bishop Street, Suite 1400, Honolulu, HI 96813.

Background documents for the 205th Council meeting will be available at www.wpcouncil.org. Written public comments on final action items at the 205th Council meeting should be received at the Council office by 5 p.m. HST, Thursday, December 11, 2025, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website.

FOR FURTHER INFORMATION CONTACT: Kitty M. Simonds, Executive Director, Western Pacific Fishery Management Council; phone: (808) 522-8220.

SUPPLEMENTARY INFORMATION: The 158th SSC meeting will be held between 11 a.m. and 5 p.m. Hawaii Standard Time (HST) on December 9-10, 2025, and between 11 a.m. and 2 p.m. HST on December 11, 2025. The Executive and Budget SC meeting will be held between 10 a.m. and 12 p.m. HST on December 15, 2025. The Program Planning SC meeting will be held between 2 p.m. and 4 p.m. on December 15, 2025. The 205th Council meeting will be held between 11 a.m. and 5 p.m. HST on December 16-17, 2025. Public Comment on Non-Agenda Items will be held between 4:30 p.m. and 5 p.m. HST on December 16, 2025.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

This meeting will be recorded (audio only) for the purposes of generating the minutes of the meeting. As public comments will be made publicly available, participants and public commenters are urged not to provide personally identifiable information (PII) at this meeting. Participation in the meeting by web conference, or by telephone, constitutes consent to the audio recording.

Agenda for the 158th SSC Meeting

Tuesday, December 9, 2025, 11 a.m. to 5 p.m. HST

1. Introductions

2. Approval of Draft Agenda and Assignment of Rapporteurs

3. Status of the 157th SSC Meeting Recommendations

4. Pacific Islands Fisheries Science Center Director's Report

5. Program Planning and Research

A. Multi-species Stock Assessment Strategies Process—Phase I Status Update

B. SSC Special Projects Working Group (WG) Reports

B.1. Bottomfish Management Unit Species Multispecies Complex WG next steps

B.2. Protected Species WG Report

B.3. Electronic Monitoring WG Update

B.4. Review of Special Projects List for 2026

C. Monument Actions

C.1. Options for removing Federal fishing prohibitions in the Marianas Trench Marine National Monument (MTMNM), Rose Atoll Marine National Monument (RAMNM), and Papahānaumokuākea Marine National Monument (PMNM) (Action Item)

C.2. State of Knowledge of Open Ocean Marine Protected Areas (MPAs) and Impacts in Western Pacific Region

D. Council Inflation Reduction Act (IRA) Project Updates

D.1. Scenario Planning for the American Samoa Longline Fishery

D.2. Updates on the Protected Species, Regulatory Review, and Community Engagement Projects

E. Public Comment

F. SSC Discussion and Recommendations

Wednesday, December 10, 2025, 11 a.m. to 5 p.m. HST

6. Protected Species

A. False Killer Whales Abundance Estimates Update

A.1. MHI Insular Population Abundance Estimates

A.2. Pelagic Abundance Estimates based on the 2023 Hawaiian Islands Cetacean and Ecosystem Assessment Survey

B. Deep-set Longline (DSLL) Endangered Species Act (ESA) Reconsultation for Oceanic Whitetip Shark and Leatherback Turtles

C. Kaneohe Green Sea Turtle Nesting Genetics

D. Public Comment

E. SSC Discussion and Recommendations

7. Pelagic & International Fisheries

A. Electronic Monitoring Updates

B. Outcomes of the Western and Central Pacific Fisheries Commission (WCPFC) 22nd Regular Session

C. Public Comment

D. SSC Discussion and Recommendations

8. Island Fisheries

A. Territorial Coral Reef Life History

B. Marine Recreational Information Program

C. Public Comment

D. SSC Discussion and Recommendations

Thursday, December 11, 2025, 11 a.m. to 2 p.m. HST

9. Other Business

A. SSC Meeting Schedule and Potential Working Groups

10. Summary of SSC Recommendations to the Council

Agenda for the Executive and Budget SC Meeting

Monday, December 15, 2025, 10 a.m. to 12 p.m. HST

1. Introduction and Approval of Agenda

2. Financial Reports

3. Administrative Reports

A. Office Lease Renewal

4. Council Family Changes

A. Pacific States Marine Fisheries Commission Membership

B. Election of Officers

5. Meetings and Workshops

6. Other Business

7. Public Comment

8. Discussion and Recommendations

Agenda for the Program Planning SC Meeting

Monday, December 15, 2025, 2 p.m. to 4 p.m. HST

1. Introduction and Approval of Agenda

2. 2026-2029 CNMI Bottomfish Annual Catch Limit Specifications (Action Item)

3. Recommendations on Commercial Fishing in the Pacific Islands Heritage Marine National Monument (Action Item)

4. Options for Commercial Fishing in the RAMNM, MTMNM, and PMNM (Action Item)

5. Report on Implementing the Seafood Executive Order Recommendations

6. Update on IRA Projects

7. Advisory Body Recommendations on Action Items

A. Advisory Panels

B. Fishing Industry Advisory Committee

C. Scientific and Statistical Committee

8. Other Business

9. Public Comment

10. Discussion and Recommendations

Agenda for the 205th Council Meeting

Tuesday, December 16, 2025, 11 a.m. to 5 p.m. HST

1. Welcome and Introductions

2. Approval of the 205th Council Meeting Agenda

3. Approval of the 204th Council Meeting Minutes

4. Executive Director's Report

5. Agency Reports

A. National Marine Fisheries Service

A.1. Pacific Islands Regional Office

A.2. Pacific Islands Fisheries Science Center

B. NOAA Office of General Counsel Pacific Islands Section

C. US Coast Guard

D. Enforcement

D.1. NOAA Office of Law Enforcement

D.2. NOAA Office of General Counsel Enforcement Section

E. US State Department

F. US Fish and Wildlife Service

G. Public Comment

H. Discussion and Action

6. Council Member Island Reports

A. American Samoa

B. CNMI

C. Guam

D. Hawaii

E. Public Comment

F. Discussion and Action

7. Program Planning and Research

A. Specifications for CNMI Bottomfish Annual Catch Limits 2026-2029 (Final Action)

B. Recommendations on Commercial Fishing in the Pacific Islands Heritage Marine National Monument (Final Action)

C. Options for Commercial Fishing in the RAMNM, MTMNM, PMNM (Initial Action)

C.1. Report on MPA Science from SSC

D. Report on Implementing the Seafood Executive Order Recommendations

E. IRA Project Updates

E.1. Status of the Protected Species Workshops

E.2. Regulatory Review Status Report

E.3. Report on 2nd Round of Community Meetings and Vocational Fishermen Training Pilot Project

F. Advisory Group Report and Recommendations

F.1. Advisory Panel

F.2. Fishing Industry Advisory Committee

F.3. Social Science Planning Committee

F.4. Scientific and Statistical Committee

G. Public Comment

H. Discussion and Action

Tuesday, December 16, 2025, 4:30 p.m. to 5 p.m. HST

Public Comment on Non-Agenda Items

Wednesday, December 17, 2025, 11 a.m. to 5 p.m. HST

8. Protected Species

A. MHI Insular and Pelagic False Killer Whale Abundance Estimates Updates

B. DSLL ESA Reconsultation for Oceanic Whitetip Shark and Leatherback Turtles

C. Advisory Group Report and Recommendations

C.1. Advisory Panel

C.2. Fishing Industry Advisory Committee

C.3. Scientific and Statistical Committee

D. Public Comment

E. Discussion and Action

9. Pelagic and International Fisheries

A. Review of Electronic Monitoring Vessel Monitoring Plans

B. International Fisheries

B.1. Outcomes of Technical and Compliance Meeting of the WCPFC

B.2. U.S. Positions at WCPFC22 from Permanent Advisory Committee

B.3. Outcomes of the WCPFC 22nd Regular Session 2025

C. IRA Scenario Planning American Samoa Meeting Report

D. Advisory Group Report and Recommendations

D.1. Advisory Panel

D.2. Fishing Industry Advisory Committee

D.3. Scientific and Statistical Committee

E. Public Comment

F. Discussion and Action

10. Administrative Matters

A. Council Member and Staff Ethics Training

B. Financial Reports

C. Administrative Reports

D. Council Coordinating Committee Update

E. Council Family Changes

F. Meetings and Workshops

G. Executive and Budget Standing Committee Report

H. Public Comment

I. Council Discussion and Action

11. Election of Officers

12. Other Business

Non-emergency issues not contained in this agenda may come before the Council for discussion during its 205th meeting. However, Council final decisions will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 18, 2025.
Rey Israel Marquez,
Acting Deputy Director, Office of Sustainable Fisheries, National Marine Fisheries Service.

[FR Doc. 2025-20425 Filed 11-19-25; 8:45 am]

BILLING CODE 3510-22-P